DEPARTMENT OF DEFENSE

Department of the Army; Corps of Engineers

Intent To Prepare a Draft Environmental Impact Statement for Proposed Quonset/Davisville Port and Commerce Park, Narragansett Bay, North Kingstown, RI, Application for Corps Section 10/404 Individuals Permit

AGENCY: Department of the Army, U.S. Army Corps of Engineers, DoD.

ACTION: Notice of intent.

SUMMARY: The New England District, Corps of Engineers, has received an application from the State of Rhode Island, Office of the Governor, for a Corps of Engineers permit under section 10 of the Rivers and Harbors Act of 1899 and section 404 of the Clean Water Act to dredge and fill navigable and non-navigable waters of the United States. The project is proposed at Quonset Point in Narragansett Bay, Rhode Island. The Corps has determined that an Environmental Impact Statement (EIS) is required for this proposed project. The applicant's stated purpose is to develop a compact, automated container facility to handle from 250,000 to 1,200,000 containers per year. The project proposes to dredge up to 6.3 million cubic yards of material from the Quonset and Davisville Channels to a depth of 52 feet, provide 4,000 linear feet of marginal wharf for container ship dockage and fill up to 115 acres of Narragansett Bay to provide lay-down area for container processing.

FOR FURTHER INFORMATION CONTACT: Questions about the proposed action and Draft EIS can be answered by Mr. Greg Penta, Regulatory Division, U.S. Army Corps of Engineers, 696 Virginia Road, Concord, Massachusetts 017422751, Telephone No. (978) 3188862, or by e-mail at gregory.r.penta@usace.army.mil.

SUPPLEMENTARY INFORMATION: The U.S. Navy developed the Naval Air Station at Quonset Point and the Construction Battalion Center at Davisville with the onset of World War II. The Navy is still transferring portions of the 3000-acre site to the Rhode Island Port Authority and Economic Development Corporation. The applicant has indicated that the footprint of the proposed port may occupy less than 200 acres.

The applicant states that increased container terminal capacity will be of assistance to expanding national trade interests, particularly considering an expanding global market. They state that continerized cargo volumes have increased both nationally and regionally for over 20 years, are anticipated to continue to grow at steady rates, and the demand for more container handling terminals in the New England region is evident. Quonset Davisville benefits from existing airport, railway, and highway infrastructure.

The existing channels and basins were last dredged in the 1960's. Original depth were from 35 to 40 feet. The applicant has identified potential disposal sites, but has not decided upon a preferred disposal site. Deeper channels have the potential to change circulation patterns, salinity gradients, dissolved oxygen levels and consequently affect marine ecology within a Narragansett Bay. Studies such as extensive hydrodynamic modeling will be conducted to evaluate impacts. The proposed filing of between 100 to 115 acres of ocean waters, needed to accommodate port operations and container storage, is unprecedented in the Corps New England District's permitting history.

Alternatives to be addressed in the EIS will include the No Action Alternative, alternative port locations within a North American region (potentially including another Rhode Island location), to be determined during scoping, and alternative port options along the Quonset Davisville waterfront.

The EIS will analyze in depth the following significant issues and impacts associated with the construction and operation of the port: Recreational and commercial boating and fishing activities, endangered marine mammals and reptiles, aquatic and benthic habitat destruction and alteration, circulation patterns, invasive species, economics and job creation. The Corps anticipates the Draft EIS will be available for public review in the Summer of 2003.

Other Environmental Review and Consultation Requirements

To the fullest extent possible, the EIS will be integrated with analyses and consultation required by the Endangered Species Act of 1973, as amended (Pub. L. 93-205; 16 U.S.C. 1531, et seq.); the Magnuson-Stevens Fishery Conservation and Management Act, as amended (Pub. L. 94-265; 16 U.S.C. 1801, et seq.), the National Historic Preservation Act of 1966, as amended (Pub. L. 89-655; 16 U.S.C. 470. et seq.); the Fish and Wildlife Coordination Act of 1958, as amended (Pub. L. 85-624; 16 U.S.C. 661, et seq.); the Coastal Zone Management Act of 1972, as amended (Pub. L. 92-583; 16 U.S.C. 1451, et seq.); and the Clean Water Act of 1977, as amended (Pub. L. 92-500; 33 U.S.C. 1251, et seq.), Section 10 of the Rivers and Harbors Act of 1899, 33 U.S.C. 403 et seq.); and applicable and appropriate Executive Orders.

Scoping

The Corps will conduct an open scoping and public involvement process during the development of the EIS. The scoping process is the key to preparing a concise EIS and clarifying the significant issues to be analyzed in depth. Public concerns on issues, studies needed, alternatives to be examined, procedures and other related matters will be addressed during scoping. The purpose of the scoping meetings is to assist the Corps in defining the issues that will be evaluated in the EIS. All interested Federal, State and local agencies, affected Indian tribes, interested private and public organizations, and individuals are invited to attend these scoping meetings.

The first scoping meeting will be held on Tuesday, June 4, 2002, at Rhode Island College, 600 Mount Pleasant Avenue, Providence, Rhode Island in the Clarke Science Building, Room 125. Registration begins at noon at the meeting begins at 1 p.m. The second scoping meeting will be held on Thursday, June 6, 2002, at the North Kingstown High School, 150 Fairway Drive, North Kingstown, Rhode Island in the auditorium. Registration begins at 6 p.m. and the meeting begins at 7 p.m.

Luz D. Ortiz,
Army Federal Register Liaison Officer.

[FR Doc. 02-11630 Filed 5-8-02; 8:45 am]

BILLING CODE 3710-24-M